DEPARTMENT OF HEALTH AND HUMAN SERVICES

Health Resources and Services Administration

Notice of Correction

AGENCY: Health Resources and Services Administration, HHS.

ACTION: Notice; correction.

SUMMARY: The Health Resources and Services Administration published a notice in the Federal Register, 80 FR 55861 (September 17, 2015) announcing the Bridging the Word Gap Competition Challenge. This correction notice extends the deadline for Phase 1 submissions by approximately 4 weeks to allow for additional submissions. Accordingly, the remaining timelines for all subsequent phases and judging periods will also be extended by approximately 4 weeks.

FOR FURTHER INFORMATION CONTACT: Jessie Buerlein, Public Health Analyst, Maternal and Child Health Bureau, Health Resources and Services Administration, 5600 Fishers Lane Rockville, MD 20852, jbuerlein@hrsa.gov, 301-443-8931.

Correction

In the Federal Register 80 FR 55861 (September 17, 2015), please make the following corrections:

In the Summary section, correct dates of each phase to read:

Dates for each phase are as follows:

Phase 1 Effective: November 6, 2015

Phase 1 Submission Deadline: January 29, 2016, 11:59 p.m. ET

Phase 1 Judging Period: January 30-February 28, 2016

Phase 1 Winners Announced: March 8, 2016

Phase 2 Begins: March 11, 2016

Phase 2 Submission Deadline: August 11, 2016

Phase 2 Judging Period: August 12-September 16, 2016

Phase 2 Winners Announced: Week of September 19, 2016

Phase 3 Begins: September 26, 2016

Phase 3 Submission Deadline: March 26, 2017

Phase 3 Winner Announced: May 2017

Dated: January 29, 2016.
James Macrae,
Acting Administrator.

[FR Doc. 2016-03106 Filed 2-12-16; 8:45 am]

BILLING CODE 4165-15-P